ENVIRONMENTAL PROTECTION AGENCY

[EPA-New England Region I—EPA-R01-OW-2009-00103; FRL-8896-8]

Maine Marine Sanitation Device Standard—Receipt of Petition

AGENCY: Environmental Protection Agency (EPA).

ACTION: Notice—Receipt of Petition.

SUMMARY: Notice is hereby given that a petition has been received from the state of Maine requesting a determination by the Regional Administrator, U.S. Environmental Protection Agency, that adequate facilities for the safe and sanitary removal and treatment of sewage from all vessels are reasonably available for the waters of Southern Mount Desert Island.

DATES: Comments must be submitted by May 26, 2009.

ADDRESSES: Submit your comments, identified by Docket ID No. EPA-R01-OW-2009-0103, by one of the following methods: http://www.regulations.gov, Follow the on-line instructions for submitting comments.

• Email: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2009-0103. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the State of Maine requesting a determination by the Regional Administrator, U.S. Environmental Protection Agency, pursuant to section 312(f)(3) of Public Law 92-500 as amended by Public Law 95-217 and Public Law 100-4, that adequate facilities for the safe and sanitary removal and treatment of sewage from all vessels are reasonably available for the Southern Mount Desert Island area.

The proposed No Discharge Area for Southern Mount Desert Island:

Waterbody/general area | From longitude | From latitude | To longitude | To latitude
From “Bass Harbor Head” in Tremont north following the shore to the bridge over the outlet stream of “Somes Pond” in Mount Desert | 68°20′14.35″ W | 44°13′16.42″ N | 68°20′0.79″ W | 44°21′46.16″ N
Northeast following the shore to the bridge over “Kitteridge Brook” in the northern most portion of “Somes Harbor” in Mount Desert | 68°20′0.79″ W | 44°21′46.16″ N | 68°19′45.68″ W | 44°22′5.07″ N
East following the shore to the head of “Somes Sound” in Mount Desert | 68°19′45.68″W | 44°22′5.07″ N | 68°18′36.0″ W | 44°21′49.83″ N
South following the shore to the northern most portion of “Northeast Harbor” in Mount Desert | 68°18′36.0″ W | 44°21′49.83″ N | 68°17′1.48″ W | 44°18′8.08″ N
East following the shore to the northern most head of “Otter Cove” in Mount Desert | 68°17′1.48″ W | 44°18′8.08″ N | 68°12′6.47″ W | 44°19′22.25″ N
South following the shore to “Otter Point” in Mount Desert | 68°12′6.47″ W | 44°19′22.25″ N | 69°11′27.45″ W | 44°18′20.76″ N
South in a straight line across the water to navigational marker C ”1” off “Baker Island” in Cranberry Isles | 69°11′27.45″ W | 44°18′20.76″ N | 68°11′16.54″ W | 44°14′16.84″ N
West in a straight line across the water to “Bass Harbor Head” in Tremont | 68°11′16.54″ W | 44°14′16.84″ N | 68°20′14.35″ W | 44°13′16.42″ N

The boundaries were chosen based on easy line-of-sight locations and generally represent all navigational waters. The area includes the municipal waters of Mount Desert, Southwest Harbor, and portions of Cranberry Isles, and Tremont.

There are marinas, yacht clubs and public landings/piers in the proposed area with a combination of mooring fields and dock space for the recreational and commercial vessels. Maine has certified that there are six pumpout facilities within the proposed area available to the boating public and the facilities are connected to the municipal sewage system. A list of the facilities, locations, contact information, hours of operation, and water depth is provided at the end of this petition.

Maine has provided documentation indicating that the total vessel population is estimated to be 992 in the proposed area. It is estimated that 374 of the total vessel population may have a Marine Sanitation Device (MSD) of some type.

The proposed area is identified as a High Value Wildlife Habitat by the U.S. Fish and Wildlife Service. The area constitutes almost 25 square miles of marine habitat, 4,000 acres of wetlands, and essential habit for bald eagles. The area is adjacent to and bordered by Acadia National Park, the most popular tourist location in the state. There are two large marinas and two service docks in Southwest Harbor, and a large boating complex managed by the Town of Mount Desert and a small marina in Northeast Harbor, together serving roughly 992 boats. This area is a popular destination for boaters due to its natural environmental diversity and would benefit from a No Discharge Area.

Pumpout Facilities Within Proposed No Discharge Area

Southern Mount Desert Island
Name | Location | Contact info. | Hours | Mean low water depth
Harbormaster | 18 Harbor Drive Mount Desert | 207-276-5737 VHF 16 | 8 a.m.-5 p.m., 7 days | 10 ft.
Clifton Dock | Clifton Dock Road Mount Desert | 207-967-2511 VHF 9 | 8 a.m.-5 p.m., 7 days | 10 ft.
Hinckley Company | 130 Shore Rd. Southwest Harbor | 207-244-5572 VHF 9 | 8 a.m.-5 p.m., 7 days | 20 ft.
Great Harbor Marina | 11 Apple Lane Southwest Harbor | 207-244-0117 VHF 9 | 9 a.m.-5 p.m., 7 days | 10 ft.
Southwest Boat Marine Service | 168 Clarke Point Rd. Southwest Harbor | 207-244-5525 VHF 9 | 9 a.m.-5 p.m., M-F | 8 ft.
Downeast Diesel and Marine | 174 Clarke Point Rd. Southwest Harbor | 207-244-5145 VHF 9 | 9 a.m.-5 p.m., M-F | 8 ft.

Dated: April 17, 2009.
Ira W. Leighton,
Acting Regional Administrator, New England Region.

[FR Doc. E9-9439 Filed 4-23-09; 8:45 am]

BILLING CODE 6560-50-P